DEPARTMENT OF COMMERCE

International Trade Administration

A-570-868

Folding Metal Tables and Chairs from the People's Republic of China: Notice of Partial Rescission of Second Antidumping Duty Administrative Review

AGENCY: Import Administration, International Trade Administration, Department of Commerce.

EFFECTIVE DATE: March 22, 2005.

FOR FURTHER INFORMATION CONTACT: Amber Musser or Brian C. Smith, AD/CVD Operations, Office 9, Import Administration, International Trade Administration, U.S. Department of Commerce, 14th Street and Constitution Avenue, NW, Washington, DC 20230; telephone (202) 482-1777 or (202) 482-1766, respectively.

SUPPLEMENTARY INFORMATION:

Background

On June 1, 2004, the Department of Commerce (“the Department”) published in the Federal Register (69 FR 30873) a notice of “Antidumping or Countervailing Duty Order, Finding, or Suspended Investigation; Opportunity To Request Administrative Review” of the antidumping duty order on folding metal tables and chairs from the People's Republic of China (“PRC”) for the period June 1, 2003, through May 31, 2004.

On June 25, 2004, Wok and Pan Industry, Inc. (“Wok & Pan”) requested an administrative review of its sales. On June 28, 2004, Cosco Home and Office Products (an importer of the merchandise subject to this antidumping duty order) requested an administrative review of the antidumping duty order for the following companies: Feili Furniture Development Limited Quanzhou City, Feili Furniture Development Co., Ltd., Feili Group (Fujian) Co., Ltd., and Feili (Fujian) Co., Ltd (collectively “Feili”) and New-Tec Integration Co., Ltd. (“New-Tec”). On June 29, 2004, Feili requested an administrative review of its sales. On June 30, 2004, Dongguan Shichang Metals Factory Co., Ltd., Dongguan Shichang Metals Factory Ltd., and Maxchief Investments Limited (collectively “Shichang”), and Lifetime Hong Kong Ltd. and Lifetime (Xiamen) Plastic Products Ltd. (collectively “Lifetime”) requested an administrative review of their sales. Also on June 30, 2004, the Meco Corporation (“the petitioner”) requested an administrative review of the antidumping duty order for the following companies: Feili, New-Tec, and Shichang.

On July 28, 2004, the Department published a notice of initiation of an administrative review of the antidumping duty order on folding metal tables and chairs from the PRC with respect to these companies. See Initiation of Antidumping and Countervailing Duty Administrative Reviews and Request for Revocation in Part, 69 FR 45010, 45011 (July 28, 2004) (“Initiation Notice”).

On September 2, 2004, Lifetime withdrew its request for an administrative review. On September 7, 2004, the petitioner withdrew its request for an administrative review of Shichang. On September 8, 2004, Shichang withdrew its request for an administrative review.

Partial Rescission of Review

Pursuant to 19 CFR 351.213(d)(1), the Secretary will rescind an administrative review in whole or in part if a party that requested the review withdraws its request within ninety days of publication of the Federal Register notice that initiated the review. Therefore, as the petitioner, Lifetime, and Shichang were the only parties that made requests for review on behalf of Lifetime and Shichang, and because the petitioner, Lifetime, and Shichang have all withdrawn their requests for review in accordance with 19 CFR 351.213(d)(1), the Department is rescinding in part this review of the antidumping duty order on folding metal tables and chairs from the PRC with respect to Lifetime and Shichang. This review will continue with respect to Feili, New-Tec, and Wok & Pan.

This notice is issued and published in accordance with sections 751(a)(1) and 777(i)(l) of the Tariff Act of 1930, as amended, and 19 CFR 351.213(d)(4).

Dated: March 16, 2005.
Barbara E. Tillman,
Acting Deputy Assistant Secretary for Import Administration.

[FR Doc. E5-1250 Filed 3-21-05; 8:45 am]

BILLING CODE 3510-DS-S